DEPARTMENT OF ENERGY

Federal Energy Regulatory Commission

[Docket No. RP01-119-000]

Great Lakes Gas Transmission Limited Partnership; Notice of Tariff Filing

December 5, 2000.

Take notice that on November 28, 2000, Great Lakes Gas Transmission Limited Partnership (Great Lakes) tendered for filing as part of its FERC Gas Tariff, Second Revised Volume No. 1, Eleventh Revised Sheet No. 7 and Sixth Revised Sheet No. 48, proposed to be effective January 1, 2001.

Great Lakes states that the tariff sheets described above reflect the revised funding surcharges for the Gas Research Institute (GRI) for the year 2001. These surcharges were approved by the Commission in its letter order issued September 19, 2000, in Docket No. RP00-313-000, in which it also approved GRI's funding for its year 2001 research, development, and demonstration (RD&D) program and its 2001-2005 five-year RD&D plan.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31425 Filed 12-8-00; 8:45 am]

BILLING CODE 6717-01-M